ENVIRONMENTAL PROTECTION AGENCY

[EPA-HQ-OPP-2009-337; FRL-8793-1]

Pesticides; Availability of Pesticide Registration Notice Announcing Establishment of the Antimicrobial Exposure Assessment Task Force II

AGENCY: Environmental Protection Agency (EPA).

ACTION: Notice.

SUMMARY: This Agency is announcing the availability of a Pesticide Registration Notice (PR Notice) regarding the formation of the Antimicrobial Exposure Assessment Task Force II (AEATF II). PR Notices are issued by the Office of Pesticide Programs (OPP) to inform pesticide registrants and other interested persons about important policies, procedures and registration related decisions, and serve to provide guidance to pesticide registrants and OPP personnel. This particular PR Notice provides information concerning the formation of an industry-wide task force to jointly develop mixer, loader, applicator and post-application exposure data for antimicrobial pesticides used in commercial, institutional, occupational, and consumer settings.

FOR FURTHER INFORMATION CONTACT: Timothy Leighton, Antimicrobials Division, Office of Pesticide Programs, Environmental Protection Agency, 1200 Pennsylvania Ave., NW., Washington, DC 20460-0001; telephone number: (703) 305-7435; fax number: (703) 308-6467; e-mail: leighton.timothy@epa.gov.

SUPPLEMENTARY INFORMATION:

I. General Information

A. Does this Action Apply to Me?

This action is directed to manufacturers, producers, formulators and registrants of antimicrobial pesticide products. Since other entities may also be interested, the Agency has not attempted to describe all the specific entities that may be affected by this action. If you have questions regarding the information in this notice, consult the person listed under FOR FURTHER INFORMATION CONTACT.

B. How Can I Get Copies of this Document and Other Related Information?

1. Docket. EPA has established a docket for this action under docket identification (ID) number EPA-HQ-OPP-2009-0337. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Guidance Dose this PR Notice Provide

The Agency is announcing the issuance of a Pesticide Registration Notice [PR-209-0337] that announces the formation of the Antimicrobial Exposure Assessment Task Force II (AEATF II), an industry-wide task force to jointly develop mixer, loader, applicator, and post-application exposure data for antimicrobial pesticides used in commercial, institutional, occupational, and consumer settings. This Notice discusses why these data are being developed and how registrants may participate in the AEATF II’s development of these data. Any applicant or registrant may choose among other ways of supplying such data as it becomes required, including generation and submission of its own data. The PR Notice is not intended to define or restrict the terms of or subsequent amendments to the joint data development agreement and its operation, nor is it intended to compel any registrant or applicant to participate or rely upon the Task Force’s data generation and submission.

III. Do PR Notices Contain Binding Requirements

The PR Notice discussed in this notice is intended to provide information to EPA personnel and decision makers and to pesticide registrants. This is not a regulatory action and does not require regulatory authority.

List of Subjects

Environmental protection, Administrative practice and procedure, Antimicrobial, Pesticides and pests.

Dated: September 30, 2009.
Debra Edwards,
Director, Office of Pesticide Programs.

[FR Doc. E9-24442 Filed 10-13-09; 8:45 am]

BILLING CODE 6560-50-S